DEPARTMENT OF THE INTERIOR

Bureau of Land Management

[CA-610-09-0777-42]

Meeting of the California Desert District Advisory Council

SUMMARY: Notice is hereby given, in accordance with Public Laws 92-463 and 94-579, that the California Desert District Advisory Council to the Bureau of Land Management, U.S. Department of the Interior, will meet in formal session on Saturday, April 7 from 8 a.m. to 5 p.m. The meeting will be held in the Holiday Inn Select, located at 3400 Market Street in Riverside, California.

Agenda topics will include reports, Council discussions and recommendations on the newly designated Santa Rosa and San Jacinto Mountains National Monument, the Northern and Eastern Colorado Coordinated Management Plan and the Northern and Eastern Mojave Plan released for public review and comment, the development of plan amendments for the Eastern San Diego and South Coast resource management plans, and the lawsuit filed against the BLM by the Center for Biological Diversity, the Sierra Club, and the Public Employees for Environmental Responsibility.

All Desert District Advisory Council meetings are open to the public. Time for public comment may be made available by the Council Chairman during the presentation of various agenda items, and is scheduled at the beginning of the meeting for topics not on the agenda.

Written comments may be filed in advance of the meeting for the California Desert District Advisory Council, c/o Bureau of Land Management, Public Affairs Office, 6221 Box Springs Boulevard, Riverside, California 92507-0714. Written comments also are accepted at the time of the meeting and, if copies are provided to the recorder, will be incorporated into the minutes.

FOR FURTHER INFORMATION CONTACT: Doran Sanchez at (909) 697-5220, BLM California Desert District External Affairs.

Dated: March 7, 2001.
Tim Salt,
District Manager.

[FR Doc. 01-7050 Filed 3-20-01; 8:45 am]

BILLING CODE 4310-40-P